DEPARTMENT OF TRANSPORTATION

Federal Aviation Administration

14 CFR Part 39

[Docket No. FAA-2006-23644; Directorate Identifier 2006-CE-03-AD; Amendment 39-14679; AD 2006-14-08]

RIN 2120-AA64

Airworthiness Directives; Mitsubishi Heavy Industries MU-2B Series Airplanes

AGENCY: Federal Aviation Administration (FAA), DOT.

ACTION: Final rule.

SUMMARY: The FAA adopts a new airworthiness directive (AD) for some Mitsubishi Heavy Industries (MHI) MU-2B series airplanes. This AD requires you to verify that the current flight idle blade angles are set at 12 degrees. If not already set at that angle, set the flight idle blade angles to 12 degrees. This AD results from a recent safety evaluation that used a data-driven approach to analyze the design, operation, and maintenance of the MU-2B series airplanes in order to determine their safety and define what steps, if any, are necessary for their safe operation. Part of that evaluation was the identification of unsafe conditions that exist or could develop on the affected type design airplanes. We are issuing this AD to prevent incorrect flight idle blade angle settings. This unsafe condition, if not corrected, could lead to an asymmetric thrust situation in certain flight conditions, which could result in airplane controllability problems.

DATES: This AD becomes effective on August 21, 2006.

As of August 21, 2006, the Director of the Federal Register approved the incorporation by reference of certain publications listed in the regulation.

ADDRESSES: To get the service information identified in this AD, contact Mitsubishi Heavy Industries America, Inc., 4951 Airport Parkway, Suite 800, Addison, Texas 75001; telephone: 972-934-5480; facsimile: 972-934-5488.

To view the AD docket, go to the Docket Management Facility; U.S. Department of Transportation, 400 Seventh Street, SW., Nassif Building, Room PL-401, Washington, DC 20590-001 or on the Internet at http://dms.dot.gov. The docket number is FAA-2006-23644; Directorate Identifier 2006-CE-03-AD.

FOR FURTHER INFORMATION CONTACT: Rao Edupuganti, Aerospace Engineer, Fort Worth ACO, ASW-150, Rotorcraft Directorate, FAA, 2601 Meacham Boulevard, Fort Worth, Texas 76137-4298; telephone: 817-222-5284; facsimile: 817-222-5960.

SUPPLEMENTARY INFORMATION:

Discussion

On February 3, 2006, we issued a proposal to amend part 39 of the Federal Aviation Regulations (14 CFR part 39) to include an AD that would apply to some MHI MU-2B series airplanes. This proposal was published in the Federal Register as a notice of proposed rulemaking (NPRM) on February 9, 2006 (71 FR 6685). The NPRM proposed to require you to check the flight idle blade angle setting and set to 12 degrees if not already.

Comments

We provided the public the opportunity to participate in developing this AD. The following presents the comment received on the proposal and FAA's response to the comment:

Comment Issue: Need for Issuance of This AD After 25 Years Since the Issuance of the Service Bulletin

Mitsubishi Heavy Industries America, Inc. questions the need for an AD 25 years after the service bulletin has been issued. In 1980, MHI (Mitsubishi Aircraft International, Inc. at the time of issuance) issued Service Bulletin No. SB016/61-001, dated March 18, 1980, to change the flight blade angles from 16 degrees to 12 degrees. The type certificate data sheet for the affected airplanes was also revised to incorporate this change, which included Note 3 to indicate a small group of airplanes that may not have incorporated Service Bulletin No. SB016/61-001. No Japanese AD was issued because no airplanes on the Japanese type certificate were affected by this change. The Japanese airplanes had already incorporated the intent of the service bulletin.

At the time the service bulletin was issued, the FAA evaluated the available information and found that there were no reports of problems or incidents of flight idle blade angle settings with airplanes of U.S. registry. Therefore, we did not issue an airworthiness directive at that time.

Based on information received from the safety evaluation done in 2005 for the MU-2B series airplanes, we identified flight idle blade angles set at 16 degrees instead of 12 degrees as a potential problem.

After analyzing this issue using our risk-based methodology and the information received from the safety evaluation, we identified that an unsafe condition is likely to exist or develop on certain type design MU-2B series airplanes. Therefore, we determined that AD action was necessary to ensure that all affected airplanes had flight idle blade angles set to 12 degrees.

We are not changing the AD as a result of this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

The Administration is committed to updating the aviation community of expected costs associated with the MU-2B series airplane safety evaluation conducted in 2005. As a result of that commitment, the accumulating expected costs of all ADs related to the MU-2B series airplane safety evaluation may be found in the Final Report section at the following Web site: http://www.faa.gov/aircraft/air_cert/design_approvals/small_airplanes/cos/mu2_foia_reading_library/.

Costs of Compliance

We estimate that this AD affects 148 airplanes in the U.S. registry.

We estimate the following costs to do the modification to change the flight idle blade angle:

Labor cost | Parts cost | Total cost per airplane | Total cost on U.S. operators
6 work-hours × $80 = $480 | Not applicable | $480 | $71,040

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-23644; Directorate Identifier 2006-CE-03-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-14-08 Mitsubishi Heavy Industries: Amendment 39-14679; Docket No. FAA-2006-23644; Directorate Identifier 2006-CE-03-AD.

Effective Date

(a) This AD becomes effective on August 21, 2006.

Affected ADs

(b) None.

Applicability

(c) This AD affects the following airplane models and serial numbers that are certificated in any category:

Model | Serial No.
(1) MU-2B-26A and MU-2B-40 | 321SA, 348SA, 350SA through 419SA, 421SA, 422SA, and 423SA.
(2) MU-2B-36A and MU-2B-60 | 661SA, 697SA through 747SA, 749SA through 757SA, and 759SA through 773SA.

Unsafe Condition

(d) This AD results from a recent safety evaluation that used a data-driven approach to analyze the design, operation, and maintenance of the MU-2B series airplanes in order to determine their safety and define what steps, if any, are necessary for their safe operation. Part of that evaluation was the identification of unsafe conditions that exist or could develop on the affected type design airplanes. The actions specified in this AD are intended to prevent incorrect flight idle blade angle settings. This unsafe condition, if not corrected, could lead to an asymmetric thrust situation in certain flight conditions, which could result in airplane controllability problems.

Compliance

(e) To address this problem, you must do the following:

Actions | Compliance | Procedures
Verify that the current flight idle blade angles are set at 12 degrees. If not already set to 12 degrees, set the flight idle blade angles to 12 degrees | Within the next 100 hours time-in-service after August 21, 2006 (the effective date of this AD) | Follow Mitsubishi Aircraft International, Inc. Service Bulletin No. SB016/61-001, dated March 18, 1980.

Alternative Methods of Compliance (AMOCs)

(f) The Manager, Forth Worth Aircraft Certification Office (ACO), FAA, ATTN: Rao Edupuganti, Aerospace Engineer, Fort Worth ACO, ASW-150, Rotorcraft Directorate, FAA, 2601 Meacham Boulevard, Fort Worth, Texas 76137-4298; telephone: 817-222-5284; facsimile: 817-222-5960, has the authority to approve AMOCs for this AD, if requested using the procedures found in 14 CFR 39.19.

Material Incorporated by Reference

(g) You must do the actions required by this AD following the instructions in Mitsubishi Aircraft International, Inc. Service Bulletin No. SB016/61-001, dated March 18, 1980. The Director of the Federal Register approved the incorporation by reference of this service bulletin in accordance with 5 U.S.C. 552(a) and 1 CFR part 51. To get a copy of this service information, contact Mitsubishi Heavy Industries, Ltd., 4951 Airport Parkway, Suite 800, Addison, Texas 75001 telephone: 972-934-5480; facsimile: 972-934-5488. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-23644; Directorate Identifier 2006-CE-03-AD.

Issued in Kansas City, Missouri, on July 5, 2006.
Kim Smith,
Manager, Small Airplane Directorate, Aircraft Certification Service.

[FR Doc. 06-6179 Filed 7-14-06; 8:45 am]

BILLING CODE 4910-13-P